ENVIRONMENTAL PROTECTION AGENCY

[ER-FRL-9007-6]

Environmental Impacts Statements; Notice of Availability

Responsible Agency: Office of Federal Activities, General Information (202) 564-7146 or http://www.epa.gov/compliance/nepa/.

Weekly receipt of Environmental Impact Statements

Filed 02/04/2013 Through 02/08/2013

Pursuant to 40 CFR 1506.9.

Notice

Section 309(a) of the Clean Air Act requires that EPA make public its comments on EISs issued by other Federal agencies. EPA's comment letters on EISs are available at: http://www.epa.gov/compliance/nepa/eisdata.html.

EIS No. 20130026, Final EIS, USFWS, TX, Edwards Aquifer Recovery Implementation Program Habitat Conservation Plan, Review Period Ends: 03/18/2013, Contact: Adam Zerrenner 512-490-0057.

EIS No. 20130027, Final EIS, USFWS, AK, Izembek National Wildlife National Wildlife Refuge Land Exchange/Road Corridor, Review Period Ends: 03/18/2013, Contact: Stephanie Brady 907-306-7448.

EIS No. 20130028, Draft EIS, AFS, AZ, Programmatic—Apache-Sitgreaves National Forests Land Management Plan, Comment Period Ends: 05/17/2013, Contact: Michelle Davalos 928-333-6334.

EIS No. 20130029, Draft EIS, NPS, 00, Cottonwood Cove and Katherine Landing Draft Development Concept Plans, Lake Mead National Recreation Area, NV, AZ, Comment Period Ends: 04/16/2013, Contact: Greg Jarvis 303-969-2263.

EIS No. 20130030, Final EIS, USFS, OR, Mt. Bachelor Ski Area Improvements Project, Review Period Ends: 03/18/2013, Contact: Amy Tinderholt 541-383-4708.

EIS No. 20130031, Draft EIS, USN, CA, U.S. Navy F-35C West Coast Homebasing, Comment Period Ends: 04/22/2013, Contact: Amy Kelley 619-532-2799.

EIS No. 20130032, Final EIS, BLM, CA, Alta East Wind Project, Proposed Plan Amendment, Comment Period Ends: 03/18/2013, Contact: Jeffery K. Childers 951-697-5308.

EIS No. 20130033, Draft Supplement, USFS, CA, Southern California National Forests Land Management Plan Amendment, Comment Period Ends: 05/17/2013, Contact: Robert Hawkins 916-849-8037.

Dated: February 12, 2013.
Dawn Roberts,
Management Analyst, Office of Federal Activities.

[FR Doc. 2013-03596 Filed 2-14-13; 8:45 am]

BILLING CODE 6560-50-P